MORRIS K. UDALL AND STEWART L. UDALL FOUNDATION

Sunshine Act Meetings

TIME AND DATE: Electronic meeting to be held via email exchanges Tuesday, August 27, 2013, 8:00 a.m. (PDT), through Friday, August 30, 2013.

PLACE: Executive Session held via email.

STATUS: This special meeting of the Board of Trustees, to be held Electronically (in accordance with Foundation Operating Procedures), is closed to the public since it is necessary for the Board to consider items in Executive Session.

MATTERS TO BE CONSIDERED: Discuss and vote on the candidate for Executive Director of the Morris K. Udall and Stewart L. Udall Foundation, Philip J. Lemanski, as proposed by the Executive Committee as appointed and acting as the required Selection Committee.

CONTACT PERSON FOR MORE INFORMATION: Stephanie Zimmt-Mack, General Counsel, 130 South Scott Avenue, Tucson, AZ 85701, (520) 901-8500.

Dated: August 9, 2013.
Elizabeth E. Monroe,
Executive Assistant, Morris K. Udall and Stewart L. Udall Foundation, and Federal Register Liaison Officer.

[FR Doc. 2013-19812 Filed 8-14-13; 8:45 am]

BILLING CODE 6820-FN-P